ENVIRONMENTAL PROTECTION AGENCY

[EPA-HQ-OW-2011-0943; FRL-9655-1]

Draft National Water Program 2012 Strategy: Response to Climate Change

AGENCY: Environmental Protection Agency (EPA).

ACTION: Notice of availability and request for comments.

SUMMARY: The Environmental Protection Agency is publishing for public comment a draft long-range strategy that describes how the agency will address climate change challenges to its mission of protecting human health and the environment. Climate change alters the hydrological background in which EPA's programs function. Depending upon the regional, local and even temporal nature of effects, climate change will pose challenges to various aspects of water resource management, including how to: address risks to drinking water, wastewater and storm water infrastructure; protect quality of surface water, ground water and drinking water; build resilience of watersheds, wetlands, and coastal and ocean waters; and work with tribal communities to understand the implications of climate change to their economy and culture.

DATES: Comments must be received on or before May 17, 2012.

ADDRESSES: Submit your comments, identified by Docket ID No. EPA-HQ-OW-2011-0943, by one of the following methods:

• Federal eRulemaking Portal: http://www.regulations.gov—Follow the on-line instructions for submitting comments.

• Email: ow-docket@epa.gov. Include EPA-HQ-OW-2011-0943 in the subject line of the message.

• Mail: Send your comments to: Water Docket, Environmental Protection Agency, Mail Code 2822T, 1200 Pennsylvania Avenue NW., Washington, DC 20460, Attention: Docket ID No. EPA-HQ-OW-2011-0943.

• Hand Delivery/Courier: Deliver your comments to EPA Docket Center, EPA West, Room 3334, 1301 Constitution Avenue NW., Washington, DC 20460, Attention Docket ID No. EPA-HQ-OW-2011-0943. Such deliveries are accepted only during normal hours of operation, which are 8:30 a.m. to 4:30 p.m., Monday through Friday, excluding legal holidays. Special arrangements should be made for deliveries of boxed information. The telephone number for the Water Docket is 202-566-2426.

Instructions: Direct your comments to Docket ID No. EPA-HQ-OW-2011-0943. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov {or email}. The http://www.regulations.gov Web site is an “anonymous access” system, which means EPA will not know your identity or contact information unless you provide it in the body of your comment. If you send an email comment directly to EPA without going through http://www.regulations.gov your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Water Docket, EPA Docket Center, EPA West, Room 3334, 1301 Constitution Ave. NW., Washington, DC. The Public Reading Room is open from 8:30 a.m. to 4:30 p.m., Monday through Friday, excluding legal holidays. The telephone number for the Public Reading Room is 202-566-1744, and the telephone number for the Water Docket is 202-566-2426.

FOR FURTHER INFORMATION CONTACT: Ms. Elana Goldstein, Office of Water (4101M), Environmental Protection Agency, Ariel Rios Building, Mail Code 4101M, 1200 Pennsylvania Avenue NW., Washington, DC 20460; telephone number: 202-564-1800; email address: water_climate_change@epa.gov. For more information, visit: http://epa.gov/water/climatechange.

SUPPLEMENTARY INFORMATION:

What should I consider as I prepare my comments for EPA?

To remain effective and continue fulfilling its mission, the EPA will need to adapt to already observed and projected changes. To that end, the Agency will continue to collaborate with partners at the federal, state, tribal, and local levels to develop the requisite information, tools and strategies. The Draft National Water Program 2012 Strategy: Response to Climate Change (Draft 2012 Strategy) addresses the challenges climate change poses and lays out a long term vision for the sustainable management of water resources for future generations in light of climate change. The Draft 2012 Strategy is intended to be a roadmap to guide future programmatic planning, and inform decision makers during the Agency's annual planning process. It describes the array of actions that should be taken in the coming years to build a climate resilient national water program.

The following questions are intended to solicit input and insight for particular areas of the Draft 2012 Strategy. In addition to these questions, reviewers are encouraged to consider their own questions pertinent to their interests.

• Which Clean Water Act and Safe Drinking Water Act program areas do you think are most vulnerable to climate change? Which strategic actions should be prioritized? Are there strategies that are missing or need revision?

• Are there important partnerships that have not been identified?

• Are there examples of methods for measuring and tracking progress and outcomes of adaptation activities? Is the approach described adequate?

• Are there research priorities that were not listed?

• Please supply any additional references addressing the economics of climate change adaptation (e.g., assessing the costs and benefits of climate change adaption projects).

• How can we improve our representation of tribal climate change and water interests? Are there examples of incorporating traditional ecological knowledge involving water resources into climate adaptation science and strategies?

Tips for Preparing Your Comments. When submitting comments, remember to:

• Identify the rulemaking by docket number and other identifying information (subject heading, Federal Register date and page number).

• Follow directions—The agency may ask you to respond to specific questions or organize comments by referencing a Code of Federal Regulations (CFR) part or section number.

• Explain why you agree or disagree; suggest alternatives and substitute language for your requested changes.

• Describe any assumptions and provide any technical information and/or data that you used.

• If you estimate potential costs or burdens, explain how you arrived at your estimate in sufficient detail to allow for it to be reproduced.

• Provide specific examples to illustrate your concerns, and suggest alternatives.

• Explain your views as clearly as possible, avoiding the use of profanity or personal threats.

• Make sure to submit your comments by the comment period deadline identified.

Dated: March 28, 2012.
Nancy K. Stoner,
Acting Assistant Administrator for Water.

[FR Doc. 2012-7816 Filed 3-30-12; 8:45 am]

BILLING CODE 6560-50-P